DEPARTMENT OF COMMERCE

International Trade Administration

Advisory Committee on Supply Chain Competitiveness: Notice of Public Meeting

AGENCY: International Trade Administration, U.S. Department of Commerce.

ACTION: Notice of open meeting.

SUMMARY: This notice sets forth the schedule and proposed topics of discussion for a public meeting of the Advisory Committee on Supply Chain Competitiveness (Committee).

DATES: The meeting will be held on March 12, 2013, from 10:00 a.m. to 1:00 p.m., Eastern Standard Time (EST).

ADDRESSES: The meeting will be held at the U.S. Department of Commerce, 1401 Constitution Avenue NW., Room 6029, Washington, DC 20230.

FOR FURTHER INFORMATION CONTACT: Richard Boll, Office of Service Industries, International Trade Administration. (Phone: (202) 482-1135 or Email: richard.boll@trade.gov)

SUPPLEMENTARY INFORMATION:

Background: The Committee was established under the discretionary authority of the Secretary of Commerce and in accordance with the Federal Advisory Committee Act (5 U.S.C. App. 2). It provides advice to the Secretary of Commerce on the necessary elements of a comprehensive, holistic national freight infrastructure and a national freight policy designed to support U.S. export and growth competitiveness, foster national economic competitiveness, and improve U.S. supply chain competitiveness in the domestic and global economy. For more information about the Committee visit: http://ita.doc.gov/td/sif/DSCT/ACSCC/.

Matters to Be Considered: Committee members are expected to discuss the major competitiveness-related topics raised at the previous Committee meeting, including trade and competitiveness; freight movement and policy; information technology and data requirements; regulatory issues; and finance and infrastructure. The Committee's subcommittees will report on the status of their work regarding these topics. The agenda may change to accommodate Committee business. The Office of Service Industries will post the final detailed agenda on its web site, http://ita.doc.gov/td/sif/DSCT/ACSCC/, at least one week prior to the meeting.

The meeting will be open to the public and press on a first-come, first-served basis. Space is limited. The public meeting is physically accessible to people with disabilities. Individuals requiring accommodations, such as sign language interpretation or other ancillary aids, are asked to notify Mr. Richard Boll, at (202) 482-1135 or richard.boll@trade.gov five (5) business days before the meeting.

Interested parties are invited to submit written comments to the Committee at any time before and after the meeting. Parties wishing to submit written comments for consideration by the Committee in advance of this meeting must send them to the Office of Service Industries (OSI), 1401 Constitution Ave NW., Room 11014, Washington, DC, 20230, or email to supplychain@trade.gov.

For consideration during the meeting, and to ensure transmission to the Committee prior to the meeting, comments must be received no later than 5:00 p.m. EST on March 5, 2013. Comments received after March 5, 2013, will be distributed to the Committee, but may not be considered at the meeting. The minutes of the meeting will be posted on the Committee Web site within 60 days of the meeting.

Dated: February 12, 2013.
David Long,
Director, Office of Service Industries.

[FR Doc. 2013-03623 Filed 2-14-13; 8:45 am]

BILLING CODE 3510-DR-P